DEPARTMENT OF THE TREASURY

Office of Foreign Assets Control

Sanctions Action Pursuant to an Executive Order Issued on September 23, 2001, Titled “Blocking Property and Prohibiting Transactions With Persons Who Commit, Threaten To Commit, or Support Terrorism”

AGENCY: Office of Foreign Assets Control, Treasury.

ACTION: Notice.

SUMMARY: The Department of the Treasury's Office of Foreign Assets Control (OFAC) is publishing the name of one individual that has been placed on OFAC's Specially Designated Nationals and Blocked Persons (SDN) List whose property and interests in property is blocked pursuant to an executive order issued on September 23, 2001, titled “Blocking Property and Prohibiting Transactions With Persons Who Commit, Threaten To Commit, or Support Terrorism.”

DATES: OFAC's action described in this notice was effective on June 16, 2017.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic Availability

The SDN List and additional information concerning OFAC sanctions programs are available from OFAC's Web site (www.treas.gov/ofac).

Notice of OFAC Actions

On June 16, 2017, OFAC blocked the property and interests in property of the following one individual pursuant to E.O. 13224 of September 23, 2001, “Blocking Property and Prohibiting Transactions With Persons Who Commit, Threaten To Commit, or Support Terrorism” (E.O. 13224):

Individual

1. SAAL, Fared (a.k.a. SAAL, Farid; a.k.a. SAAL, Fehad; a.k.a. “AL-ALMANI, Abu Luqmaan”; a.k.a. “AL-ALMANI, Abu Luqman”; a.k.a. “AL-JAZAIRI, Abu Luqman”; a.k.a. “LOQMAN, Abu”; a.k.a. “LUQMAN, Abu”); DOB 18 Feb 1989; alt. DOB 08 Feb 1989; POB Bonn, Germany; citizen Germany; alt. citizen Algeria; Gender Male; National ID No. 5802098444 (individual) [SDGT] (Linked To: ISLAMIC STATE OF IRAQ AND THE LEVANT). Designated pursuant to section 1(c) of E.O. 13224 for acting for or on behalf of the Islamic State of Iraq and Levant (ISIL), an entity designated pursuant to E.O. 13224.

Dated: June 16, 2017.
Andrea Gacki,
Acting Director, Office of Foreign Assets Control.

[FR Doc. 2017-13009 Filed 6-21-17; 8:45 am]

BILLING CODE 4810-AL-P